FEDERAL MARITIME COMMISSION

Ocean Transportation Intermediary License Reissuances

The Commission gives notice that the following Ocean Transportation Intermediary license has been reissued pursuant to section 19 of the Shipping Act of 1984 (46 U.S.C. 40101).

License No.: 018789F.

Name: Cargo Agents, Inc.

Address: 143-30 38th Avenue, Suite 1H, Flushing, NY 11354.

Date Reissued: December 8, 2012.

Vern W. Hill,
Director, Bureau of Certification and Licensing.

[FR Doc. 2013-07065 Filed 3-26-13; 8:45 am]

BILLING CODE 6730-01-P